FEDERAL COMMUNICATIONS COMMISSION

Sunshine Act Meeting

October 27, 2005.

Open Commission Meeting Thursday, November 3, 2005

The Federal Communications Commission will hold an Open Meeting on the subjects listed below on Thursday, November 3, 2005, which is scheduled to commence at in Room TW-C305, at 445 12th Street, SW., Washington, DC.

Item No. | Bureau | Subject
1 | Media | Title: Implementation of Section 621(a)(1) of the Cable Communications Policy Act of 1984 as amended by the Cable Television Consumer Protection and Competition Act of 1992.
|  | Summary: The Commission will consider a Notice of Proposed Rulemaking regarding Section 621(a)(1)'s directive that local franchising authorities not unreasonably refuse to award competitive cable franchises.
2 | Office of Engineering and Technology | Title: Requirements for Digital Television Receiving Capability (ET Docket No. 05-24).
|  | Summary: The Commission will consider a Second Report and Order concerning its requirements for new television receivers to include the capability to receive digital television signals.
3 | Media | Title: Digital Television Distributed Transmission System Technologies.
|  | Summary: The Commission will consider a Clarification Order and Notice of Proposed Rulemaking to clarify the interim policy and propose rules for the use of distributed transmission system (“DTS”) technologies by digital television stations.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 05-21931 Filed 10-31-05; 12:12 pm]

BILLING CODE 6712-01-P